DEPARTMENT OF ENERGY

Federal Energy Regulatory Commission

Combined Notice of Filings #1

Take notice that the Commission received the following electric rate filings:

Docket Numbers: ER11-4628-000.

Applicants: PJM Interconnection, L.L.C.

Description: PJM Interconnection, L.L.C. submits third informational compliance filing apprising Commission of progress in developing tariff changes allowing loads to provide both price responsive demand and supply-side demand response.

Filed Date: 2/14/13.

Accession Number: 20130214-5165.

Comments Due: 5 p.m. ET 3/7/13.

Docket Numbers: ER13-356-002.

Applicants: ISO New England Inc.

Description: Gas Pipeline Info. Sharing Compliance Filing to be effective 1/24/2013.

Filed Date: 2/22/13.

Accession Number: 20130222-5050.

Comments Due: 5 p.m. ET 3/15/13.

Docket Numbers: ER13-966-000.

Applicants: Citadel Energy Strategies LLC.

Description: Cancellation of market-based rates tariff. to be effective 2/22/2013.

Filed Date: 2/21/13.

Accession Number: 20130221-5095.

Comments Due: 5 p.m. ET 3/14/13.

Docket Numbers: ER13-967-000.

Applicants: California Independent System Operator Corporation.

Description: 2013-02-21 Local Market Power Mitigation 2 to be effective 5/1/2013.

Filed Date: 2/21/13.

Accession Number: 20130221-5117.

Comments Due: 5 p.m. ET 3/14/13.

Docket Numbers: ER13-968-000.

Applicants: Northern Indiana Public Service Company.

Description: Filing of an Amendment to Transmission Upgrade Agreement to be effective 2/25/2013.

Filed Date: 2/22/13.

Accession Number: 20130222-5028.

Comments Due: 5 p.m. ET 3/15/13.

Docket Numbers: ER13-969-000.

Applicants: PJM Interconnection, L.L.C.

Description: Queue Position W3-048, Original Service Agreement No. 3509 to be effective 1/23/2013.

Filed Date: 2/22/13.

Accession Number: 20130222-5041.

Comments Due: 5 p.m. ET 3/15/13.

Docket Numbers: ER13-970-000.

Applicants: Midwest Independent Transmission System Operator, Inc.

Description: 02-22-2013 SA 2514 GRE-MP Little Falls T-T IA to be effective 2/23/2013.

Filed Date: 2/22/13.

Accession Number: 20130222-5048.

Comments Due: 5 p.m. ET 3/15/13.

Docket Numbers: ER13-971-000.

Applicants: Midwest Independent Transmission System Operator, Inc.

Description: 02-22-2013 SA 2513 GRE-MP Southdale-Scearcyville T-T IA to be effective 2/23/2013.

Filed Date: 2/22/13.

Accession Number: 20130222-5057.

Comments Due: 5 p.m. ET 3/15/13.

Docket Numbers: ER13-972-000.

Applicants: PJM Interconnection, L.L.C.

Description: PJM Interconnection, L.L.C. submits tariff filing per 35.15: Cancellation of U3-013 Interim ISA ? Original SA No. 3240 to be effective 1/23/2013.

Filed Date: 2/22/13.

Accession Number: 20130222-5070.

Comments Due: 5 p.m. ET 3/15/13.

Take notice that the Commission received the following open access transmission tariff filings:

Docket Numbers: OA13-2-000.

Applicants: Idaho Power Company.

Description: Idaho Power Company submits Annual Compliance Report on Operational Penalty Assessments and Distributions.

Filed Date: 2/22/13.

Accession Number: 20130222-5080.

Comments Due: 5 p.m. ET 3/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2013.
Nathaniel J. Davis, Sr.,
Deputy Secretary.

[FR Doc. 2013-04744 Filed 2-28-13; 8:45 am]

BILLING CODE 6717-01-P